DEPARTMENT OF ENERGY

[GDO Docket No. EA-507]

Application for Authorization To Export Electric Energy; Second Foundation US Trading, LLC

AGENCY: Grid Deployment Office, Department of Energy.

ACTION: Notice of application.

SUMMARY: Second Foundation US Trading, LLC (the Applicant or SFUST, LLC) has applied for authorization to transmit electric energy from the United States to Mexico pursuant to the Federal Power Act.

DATES: Comments, protests, or motions to intervene must be submitted on or before March 11, 2024.

ADDRESSES: Comments, protests, motions to intervene, or requests for more information should be addressed by electronic mail to Electricity.Exports@hq.doe.gov.

FOR FURTHER INFORMATION CONTACT: Christina Gomer, (240) 474-2403, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) by Delegation Order No. S1-DEL-S3-2023 and Redelegation Order No. S3-DEL-GD1-2023.

On January 8, 2024, the Applicant filed an application with DOE (Application or App.) for export authority to transmit electric power across international facilities into Mexico as a power marketer for a term of five-years. App. at 1.

SFUST, LLC is a Delaware limited liability company with its principal place of business in Houston, Texas. App. at 1. The Applicant states it is “a power marketer engaged in the business of marketing and trading electric energy and other energy related products in the United States.” Id. at 2. According to the Application, SFUST, LLC is solely owned by Second Foundation Holding, a joint-stock company organized under the laws of the Czech Republic. Id. The Applicant states it “is authorized to sell wholesale electric energy, capacity and ancillary services at market-based rates pursuant to authority granted by the Federal Energy Regulatory Commission (FERC) under a wholesale power sales tariff currently on file with FERC in Docket No. ER22-2959-000.” Id.

According to the Application, SFUST, LLC does not “own any franchised service territory, and does not control any electric generation or transmission facilities in the United States” and “has no other affiliates or upstream owners that own any franchised service territory or control any electric generation or transmission facilities in the United States.” App. at 2. Further, SFUST, LLC notes it “will purchase surplus electric energy to be exported from a variety of entities within the United States including power marketers, wholesale generators, electric utilities, and federal power marketing agencies.” Id. at 4. The Applicant asserts its proposed exports will be “surplus to the needs of those entities selling electric power to the Applicant” and “will not impair the sufficiency of electric supply within the United States[.]” Id. Further, the Applicant states its exports will be “transmitted pursuant to arrangements with utilities that own and operate existing transmission facilities and will be consistent with all applicable export limits on transmission facilities,” and thus the Applicant asserts it “meets the second statutory criterion of Section 202(e).” Id. at 5.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning SFUST, LLC's Application should be clearly marked with GDO Docket No. EA-507. Additional copies are to be provided directly to Jakub Sedlacek, Chief Operating Officer, Second Foundation US Trading, LLC, 808 Travis St., Suite 1030, Houston, TX 77002, jakub.sedlacek@second-foundation.com, and Zori Ferkin, King & Spalding LLP, 1700 Pennsylvania Avenue, Suite 900, Washington, DC 20006, zferkin@kslaw.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority: This document of the Department of Energy was signed on January 30, 2024, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on February 6, 2024.
Treena V. Garrett,
Federal Register Liaison Officer, U.S. Department of Energy.

[FR Doc. 2024-02680 Filed 2-8-24; 8:45 am]

BILLING CODE 6450-01-P